DEPARTMENT OF DEFENSE

Department of the Army; Corps of Engineers

The Release of the Draft Environmental Impact Statement (DEIS) and the Announcement of a Public Hearing for the Proposed Construction of the Western Wake Regional Wastewater Management Facilities, Which Includes Regional Wastewater Pumping, Conveyance, Treatment, and Discharge Facilities To Serve the Towns of Apex, Cary, Holly Springs and Morrisville, as Well as the Wake County Portion of Research Triangle Park (Service Area), NC

AGENCY: Department of the Army, U.S. Army Corps of Engineers, DoD.

ACTION: Notice.

SUMMARY: The U.S. Army Corps of Engineers (COE), Wilmington District, Regulatory Division has been reviewing the request for Department of the Army authorization, pursuant to Section 404 of the Clean Water Act from the Town of Cary, acting as the lead for the Western Wake Regional Wastewater Management Facilities Project Partners (Western Wake Partners), to construct Regional Wastewater Management Facility. The proposed project consists of regional wastewater pumping, conveyance, treatment, and discharge facilities to serve the Towns of Apex, Cary, Holly Springs and Morrisville, as well as the Wake County portion of Research Triangle Park (RTP South), NC.

The project is being proposed by the Western Wake Partners to provide wastewater service for planned growth and development in the project service area and to comply with two regulatory mandates. One regulatory mandate has been issued by the North Carolina Environmental Management Commission (EMC), and the second regulatory mandate has been issued by the North Carolina Department of Environment and Natural Resources (NC DENR).

DATES: The Public Hearing will be held at the Town of Apex Town Hall, 73 Hunter Street, Apex North Carolina, on April 14, 2009 at 6 p.m. Written comments on the Draft EIS will be received until April 27, 2009.

ADDRESSES: Copies of comments and questions regarding the Draft EIS may be addressed to: U.S. Army Corps of Engineers, Wilmington District, Regulatory Division. ATTN: File Number 2005-20159, 69 Darlington Avenue, Wilmington, NC 28403. Copies of the Draft EIS can be reviewed on the Wilmington District Regulatory homepage at http://www.saw.usace.army.mil/wetlands/projects/ww-wtp, or contact Ms. Gwen Robinson, at (910) 251-4494, to receive written or CD copies of the Draft EIS.

FOR FURTHER INFORMATION CONTACT: Questions about the proposed action and DEIS can be directed to Mr. Henry Wicker, Project Manager, Regulatory Division, telephone: (910) 251-4930.

SUPPLEMENTARY INFORMATION: 1. Project Description. The proposed project consists of regional wastewater pumping, conveyance, treatment, and discharge facilities to serve the Towns of Apex, Cary, Holly Springs and Morrisville, as well as RTP South (service area), NC. The purpose of the project is to provide wastewater service for planned growth and development in the project service area and to comply with two regulatory mandates. One regulatory mandate has been issued by the North Carolina Environmental Management Commission (EMC), and the second regulatory mandate has been issued by the North Carolina Department of Environment and Natural Resources (NC DENR).

Regulatory Mandate No. 1—Interbasin Transfer: The Towns of Apex, Cary, and Morrisville, as well as Research Triangle Park (RTP) South, obtain their drinking water from Jordan Lake in the Cape Fear River Basin and discharge treated effluent to locations in the Neuse River Basin. Obtaining water from one basin and discharging it to another river basin is referred to as an interbasin transfer (IBT), which requires a permit from the EMC. In July 2001, the EMC granted the Towns of Apex, Cary, and Morrisville, as well as Wake County (on behalf of RTP South), an IBT certificate to withdraw water from the Cape Fear River Basin and discharge the water to the Neuse River Basin. However, as a condition of approval, the IBT certificate issued by the EMC requires the local governments to return reclaimed water to the Cape Fear River Basin after 2010. As a result, the local governments have initiated activities to plan, permit, design, and construct wastewater transmission, treatment, and disposal facilities in order to comply with the terms and conditions of the IBT certificate issued by the EMC. The facilities that will be described and evaluated in the environmental impact statement (DEIS) are needed to comply with the IBT certificate terms and conditions.

Regulatory Mandate No. 2—Nutrient Enrichment for Harris Lake: The Town of Holly Springs currently has a wastewater treatment plant (WWTP) that discharges to Utley Creek, which is a tributary to Harris Lake in the Cape Fear River Basin. Representatives from NCDENR have directed the Town of Holly Springs to remove the Town's wastewater discharge from Utley Creek due to nutrient enrichment issues in Utley Creek and downstream in Harris Lake. In addition, NCDENR has encouraged Holly Springs to participate with Apex, Cary and Morrisville on a regional wastewater management program that will allow Holly Springs to remove the Town's discharge from Utley Creek after 2010. Thus, Holly Springs is participating with Apex, Cary and Morrisville in the planning, permitting, design and construction of regional effluent disposal facilities in order to comply with the mandate issued by NCDENR to remove its discharge from Utley Creek. The regional effluent disposal facilities that will be described and evaluated in the DEIS are needed to comply with the NCDENR mandate.

The proposed project was reviewed to address a number of issues which includes an alternatives analysis, direct environmental impacts, secondary and cumulative environmental impacts, environmental justice concerns, endangered species, and potential project costs.

2. Proposed Action. The proposed action is to construct a regional wastewater pumping, conveyance, treatment, and discharge facility to serve the Towns of Apex, Cary, Holly Springs and Morrisville, as well as RTP South, North Carolina. The Towns have cooperated together to develop the proposal, and each town will be responsible for the permits for their part of the proposed project. It is anticipated there will be 4 permit requests to construct the whole project. Future request for Department of the Army authorization for other sections of the project will be submitted once the final plans have been completed.

This request for Department of the Army authorization consists of the construction of a regional wastewater system that includes the construction of influent conveyance facilities, a new water reclamation facility (WRF), and new effluent conveyance facilities in western Wake County and Chatham County, North Carolina to serve the Towns of Apex, Cary, and Morrisville and RTP South. The proposed WRF site is north of U.S. 1 and just south of Old U.S. 1 between New Hill-Holleman and Shearon Harris Roads. The WRF would be constructed in two phases to a proposed treatment capacity of 30-million gallons per day (mgd). The Town of Holly Springs Utley Creek Wastewater Treatment Plant (WWTP) has already been approved to expand to 6 MGD and will share the 38 MGD outfall to the Cape Fear River. The effluent line will leave the WRF in Wake County and enter Chatham County to the discharge point located on the Cape Fear River downstream of Buckhorn Dam in Chatham County.

As a result of the construction activities related to this permit request from Western Wake Partners, there will be temporary and permanent impacts to wetlands and streams. The total permanent impact of the proposed project is 509 of linear feet (lf) of stream (329 lf of perennial and 180 lf intermittent) and 1.8 acres of wetlands. The total temporary impact of the proposed project is 1,924 lf of stream (1,115 lf of perennial and 809 lf of intermittent) and 6.8 acres of wetlands. Most of these impacts are along the influent transmission lines.

3. Alternatives. An extensive alternatives analysis was performed and reviewed by the Project Delivery Team (PDT). This included the evaluation of wastewater management options; wastewater discharge options; WRF site alternatives; conveyance alternatives and wastewater outfall options. Many alternatives were identified and evaluated through the scoping process, and further detailed description of all alternatives is disclosed in Section or Chapter 2 of the Draft EIS.

4. Scoping Process. A public scoping meeting was held on April 19, 2007 and a Project Delivery Team (PDT) was developed to provide input in the preparation of the EIS. The PDT was comprised of representatives from local, state, and federal government, the Western Wake Partners, Wake County, Chatham County, and the New Hill Community.

The COE coordinated closely with the North Carolina Division of Water Quality Construction Grants and Loans Section in the development of the EIS to ensure the process complies with State Environmental Policy Act (SEPA) requirements, as well as the NEPA requirements. The Draft EIS has been designed to consolidate both NEPA and SEPA processes to eliminate duplications.

Dated: March 4, 2009.
C. Scott McLendon,
Assistant Chief, Wilmington Regulatory District.

[FR Doc. E9-5563 Filed 3-12-09; 8:45 am]

BILLING CODE 3720-58-P